DEPARTMENT OF THE INTERIOR

Bureau of Land Management

[LLNVS00000 L58530000.ES0000 241A; N-82055; 10-08807; MO#4500012346; TAS:14X5232]

Notice of Realty Action: Classification for Lease and Subsequent Conveyance for the Recreation and Public Purposes Act of Public Lands in Clark County, NV

AGENCY: Bureau of Land Management, Interior.

ACTION: Notice of Realty Action.

SUMMARY: The Bureau of Land Management (BLM) has examined and found suitable for classification for lease and subsequent conveyance under the provisions of the Recreation and Public Purposes (R&PP) Act, as amended, approximately 12.5 acres of public land in Clark County, Nevada. The Grace Lutheran Church proposes to use the land for a worship center, a preschool and a kindergarten through eighth grade school.

DATES: Interested parties may submit written comments regarding the proposed lease/conveyance or classification of the land until June 28, 2010.

ADDRESSES: Mail written comments to the BLM Field Manager, Las Vegas Field Office, 4701 N. Torrey Pines Drive, Las Vegas, Nevada 89130, Fax: (702) 515-5010, Attn: Brenda Warner, E-mail: Brenda_Warner@blm.gov.

FOR FURTHER INFORMATION CONTACT: Brenda Warner, (702) 515-5084, E-mail: Brenda_Warner@blm.gov.

SUPPLEMENTARY INFORMATION: In accordance with Section 7 of the Taylor Grazing Act, (43 U.S.C. 315f) and Executive Order No. 6910, the following described public land in Clark County, Nevada, has been examined and found suitable for classification for lease and subsequent conveyance under the provisions of the R&PP Act, as amended, (43 U.S.C. 869 et seq.):

Mount Diablo Meridian

T. 23 S., R. 61 E.,

Sec. 15, NE¼NW¼NW¼, W½NW¼NW¼NE¼NW¼, and W½SW¼NW¼NE¼NW¼.

The area described contains 12.5 acres, more or less, in Clark County.

The parcel of land is located in the southern part of the Las Vegas Valley, approximately 660 feet east of Bermuda Road and directly south of Larson Lane, Henderson, Nevada. In accordance with the R&PP Act, the Grace Lutheran Church has filed an application to develop the above described land as a worship center with related facilities. Related facilities include a preschool and kindergarten through eighth grade school, multi-purpose building, multi-purpose outdoor play area, gymnasium, administration area, parking area, and landscaping. Additional detailed information pertaining to this application, plan of development, and site plan is in case file N-82055, which is located in the BLM Las Vegas Field Office at the above address.

Churches are common applicants under the public purpose provision of the R&PP Act. The Grace Lutheran Church is a non-profit organization, registered with the Internal Revenue Service and is a qualified applicant under the R&PP Act.

The lease and conveyance of the public land will be subject to valid existing rights. Subject to limitations prescribed by law and regulation and prior to patent issuance, the holder of any right-of-way grant within the lease area may be given the opportunity to amend the right-of-way for conversion to a new term, including perpetuity, if applicable. The lease and conveyance is consistent with the BLM Las Vegas Resource Management Plan dated October 5, 1998, and would be in the public interest. The Grace Lutheran Church has not applied for more than the 640-acre limitation for public purpose uses in a year and has submitted a statement in compliance with the regulations at 43 CFR 2741.4(b).

The lease and conveyance, if issued, will be subject to the provisions of the R&PP Act and applicable regulations of the Secretary of the Interior, and will contain the following reservations to the United States:

1. A right-of-way thereon for ditches or canals constructed by the authority of the United States, Act of August 30, 1890 (43 U.S.C. 945); and

2. All minerals shall be reserved to the United States, together with the right to prospect for, mine, and remove such deposits from the same under applicable law and such regulations as the Secretary of the Interior may prescribe.

The lease and conveyance will also be subject to:

1. Valid existing rights;

2. Right-of-way N-77148 for road purposes granted to the City of Henderson, its successors or assigns, pursuant to the Act of October 21, 1976 (43 U.S.C. 1761);

3. Right-of-way Nev-056780 for access purposes granted to the State of Nevada Department of Transportation, its successors or assigns, pursuant to the Act of November 9, 1921 (042 Stat 0216).

4. An indemnification clause protecting the United States from claims arising out of lessee/patentee's use, occupancy, or operations on the land.

On May 12, 2010 the land described above will be segregated from all other forms of appropriation under the public land laws, including the general mining laws, except for lease or conveyance under the R&PP Act, leasing under the mineral leasing laws, and disposals under the mineral material disposal laws.

Interested parties may submit written comments on the suitability of the land for a worship center, school, and related facilities. Comments on the classification are restricted to whether the land is physically suited for the proposal, whether the use will maximize the future use or uses of the land, whether the use is consistent with local planning and zoning, and whether the use is consistent with state and Federal programs. Interested parties may submit written comments regarding the specific use proposed in the application and plan of development, whether the BLM followed proper administrative procedures in reaching the decision to lease and convey under the R&PP Act, or any other factor not directly related to the suitability of the land for R&PP use. Written comments submitted to the mail, fax, or e-mail addresses listed will be considered properly filed. Any adverse comments will be reviewed by the BLM Nevada State Director. In the absence of any adverse comments, the classification of the land described in this notice will become effective on July 12, 2010. The land will not be available for lease and/or conveyance until after the classification becomes effective.

Before including your address, phone number, e-mail address, or other personal identifying information in your comment, you should be aware that your entire comment—including your personal identifying information—may be made publicly available at any time. While you can ask us in your comment to withhold your personal identifying information from public review, we cannot guarantee that we will be able to do so.

Authority: 43 CFR 2741.5.

Beth Ransel,
Assistant Field Manager, Division of Lands, Las Vegas Field Office.

[FR Doc. 2010-11251 Filed 5-11-10; 8:45 am]

BILLING CODE 4310-HC-P